NATIONAL AERONAUTICS AND SPACE ADMINISTRATION

[Notice (00-041)]

NASA Advisory Council, Life and Microgravity Sciences and Applications Advisory Committee, Microgravity Research Advisory Subcommittee; Meeting

AGENCY: National Aeronautics and Space Administration.

ACTION: Notice of meeting.

SUMMARY: In accordance with the Federal Advisory Committee Act, Pub. L. 92-463, as amended, the National Aeronautics and Space Administration announces a meeting of the NASA Advisory Council, Life and Microgravity Sciences and Applications Advisory Committee, Microgravity Research Advisory Subcommittee.

DATES: Wednesday, May 17, 2000, from 9 a.m. to 5 p.m.

ADDRESSES: Johnson Space Center, Building 9 NW, Room 2170, Houston, TX 77058.

FOR FURTHER INFORMATION CONTACT: Mr. Steve Davison, Code UG, National Aeronautics and Space Administration, Washington, DC 20546, 202-358-0647.

SUPPLEMENTARY INFORMATION: The meeting will be open to the public up to the seating capacity of the room. The agenda for the meeting is as follows:

—Status of MRAS Recommendations

—Microgravity Program Report

—ISS Program Status Report

—DWG Activities Reports

—NRC Biotechnology Report & Developments in Biotechnology

—NRC Microgravity Research in Support of Human Exploration Report

—Plans for OLMSA Initiatives

—Interaction Between Microgravity Research and Space Product Development

It is imperative that the meeting be held on this date to accommodate the scheduling priorities of the key participants. Visitors will be requested to sign a visitor's register.

Dated: April 24, 2000.
Matthew M. Crouch,
Advisory Committee Management Officer, National Aeronautics and Space Administration.

[FR Doc. 00-10716 Filed 4-28-00; 8:45 am]

BILLING CODE 7510-01-P